DEPARTMENT OF COMMERCE

Foreign-Trade Zones Board

Order No. 1522

Reorganization of Foreign-Trade Zone 181-Site 2, Trumbull and Mahoning Counties, Ohio

Pursuant to its authority under the Foreign-Trade Zones Act of June 18, 1934, as amended (19 U.S.C. 81a-81u), the Foreign-Trade Zones Board (the Board) adopts the following Order:

Whereas, the Northeast Ohio Trade & Economic Consortium, grantee of Foreign-Trade Zone No. 181, submitted an application to the Board for authority to reorganize FTZ 181-Site 2, in Trumbull and Mahoning Counties, Ohio, within the Cleveland Customs and Border Protection (CBP) port of entry (FTZ Docket 2-2007, filed 1/22/2007);

Whereas, notice inviting public comment was given in the Federal Register (72 FR 6200, 2/9/2007) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to reorganize FTZ 181 - Site 2 is approved, subject to the Act and the Board's regulations, including Section 400.28, and further subject to the Board's standard 2,000-acre activation limit for the overall general-purpose zone project, and a sunset provision that would terminate authority on December 31, 2012 for any of the additional parcels at Site 2, where no activity has occurred under FTZ procedures before that date.

Signed at Washington, DC, this 23rd day of August 2007.

David M Spooner,
Assistant Secretary of Commerce for Import Administration, Alternate Chairman, Foreign-Trade Zones Board.
Attest:
Andrew McGilvray,
Executive Secretary.

[FR Doc. E7-17364 Filed 8-30-07; 8:45 am]

BILLING CODE 3510-DS-S